DEPARTMENT OF HEALTH AND HUMAN SERVICES

National Institutes of Health

Center for Scientific Review; Amended Notice of Meeting

Notice is hereby given of a change in the meeting of the Neurotoxicology and Alcohol Study Section, October 07, 2013, 08:00 a.m. to October 07, 2013, 06:00 p.m., Embassy Suites at the Chevy Chase Pavilion, 4300 Military Road NW., Washington, DC 20015, which was published in the Federal Register on September 10, 2013, 78 FR 55269.

The meeting will be held on November 14, 2013 at the Hyatt Regency Mission Bay, 1441 Quivira Road, San Diego, CA 92109. The meeting time remains the same. The meeting is closed to the public.

Dated: October 30, 2013.
David Clary,
Program Analyst, Office of Federal Advisory Committee Policy.

[FR Doc. 2013-26311 Filed 11-1-13; 8:45 am]

BILLING CODE 4140-01-P